DEPARTMENT OF TRANSPORTATION

Federal Railroad Administration

[Docket Number FRA-2007-0030]

Petition for Waiver of Compliance

In accordance with Parts 240 and 242 of Title 49 Code of Federal Regulations (CFR), this document provides the public notice that by a document dated August 23, 2012, the New Jersey Transit Corporation (NJT) has petitioned the Federal Railroad Administration (FRA) for a waiver of compliance from certain provisions of the Federal railroad safety regulations contained at 49 CFR part 240-Qualification and Certification of Locomotive Engineers and 49 CFR part 242-Qualification and Certification of Conductors.

NJT owns the Southern New Jersey Light Rail Transit (SNJLRT), a commuter light rail transit system operating for a distance of approximately 34 miles between the cities of Trenton and Camden, NJ. On December 3, 1999, FRA granted NJT's petition for approval of Shared Use and waiver of certain FRA regulations subject to certain exceptions and conditions set forth in the letter granting the petition waiver.

FRA also granted additional relief to NJT in a decision letter dated January 28, 2004. Collectively, these decision letters are referred to as the “SNJLRT waiver.” The SNJLRT system has been in continuous revenue service since March 14, 2004, operating in accordance with the strictures, relief requests, and FRA conditions issued to date. Since the effective date of the SNJLRT waiver, and the implementation of revenue service, NJT has identified additional FRA regulations from which it hereby seeks waivers.

In the petition, NJT stated that it believes granting this waiver is in the public interest and consistent with railroad safety for two reasons. First, SNJLRT and the Consolidated Rail Corporation, the freight carrier operating on certain portions of the same rail line as SNJLRT, will continue to maintain a temporal separation plan between light rail transit operations and freight rail operations. Second, NJT and SNJLRT will be subject to comparable safety regulation through equivalent State safety oversight required by the Federal Transit Administration (FTA).

NJT states that the SNJLRT System Safety Program Plan (SSPP) and the System Security Plan have been implemented and administered in accordance with the FTA's requirements found at 49 CFR part 659-Rail Fixed Guideway Systems; State Safety Oversight and the New Jersey State Safety Oversight Program. The State Oversight Program has been found to be in compliance with FTA requirements at 49 CFR part 659.

SSPP also requires NJT to conduct annual internal safety audits to evaluate compliance with SSPP and measure its effectiveness. An annual report identifying the audits performed and any corrective action must be submitted to the New Jersey Department of Transportation (NJDOT) and actions must be taken, as appropriate, to remedy any deficiencies demonstrated by the audit. In addition, NJDOT conducts a safety review a minimum of once every 3 years to evaluate the effectiveness of NJT's implementation of its SSPP and outlines actions that must be taken, as appropriate, to remedy and deficiencies demonstrated by the review.

Pursuant to the SSPP, NJDOT is responsible for promulgating standards and procedures requiring the reporting of accidents, incidents, and hazardous conditions. SSPP outlines the circumstances under which NJT and/or NJDOT conducts accident investigations; articulates that the National Transportation Safety Board, FRA and FTA can conduct accident investigations; and describes how SNJLRT coordinates with these external agencies during an investigation. SSPP requires SNJLRT to submit to the a corrective action plan to the NJDOT State Safety Oversight Office that sets forth in detail the actions SNJLRT will take to eliminate, minimize, or control the occurrence of the accident, incident, or hazardous condition, including an implementation schedule, where appropriate (SSPP, Section 10 and Appendix J).

For the reasons stated above, NJT explained their request is consistent with the waiver process for Shared Use. See Statement of Agency Policy Concerning Jurisdiction Over the Safety of Railroad Passenger Operations and Waivers Related to Shared Use of the Tracks of the General Railroad System by Light Rail and Conventional Equipment,

65 FR 42529 (July 10, 2000); see also Joint Statement of Agency Policy Concerning Shared Use of the Tracks of the General Railroad System by Conventional Railroads and Light Rail Transit Systems, 65 FR 42626 (July 10, 2000).

A copy of the petition, as well as any written communications concerning the petition, is available for review online at www.regulations.gov and in person at the U.S. Department of Transportation's Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov/. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by December 3, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on October 15, 2012.
Robert C. Lauby,
Deputy Associate Administrator for Regulatory and Legislative Operations.

[FR Doc. 2012-25784 Filed 10-18-12; 8:45 am]

BILLING CODE 4910-06-P